DEPARTMENT OF HEALTH AND HUMAN SERVICES

National Institutes of Health

Extension of Public Comment Period for the Request for Information (RFI): Soliciting Input for the National Center for Advancing Translational Sciences (NCATS) Strategic Planning Process

SUMMARY: The National Center for Advancing Translational Sciences (NCATS) is extending the comment period for responses to its Request for Information (RFI), published in Vol. 80, No. 195, of the Federal Register on October 8, 2015. The response date has been extended from January 8, 2016, to February 8, 2016, to provide additional time for any and all interested parties to respond to this RFI. Comments must be submitted electronically using the web-based form available at http://grants.nih.gov/grants/rfi/rfi.cfm?ID=50.

FOR FURTHER INFORMATION CONTACT: Specific questions about this notice should be sent via email to: NCATSstrategicplan@mail.nih.gov.

Dated: January 6, 2016.
Christopher P. Austin,
Director, NCATS.

[FR Doc. 2016-00409 Filed 1-11-16; 8:45 am]

BILLING CODE 4140-01-P